FEDERAL MARITIME COMMISSION

Ocean Transportation Intermediary License Reissuance

Notice is hereby given that the following Ocean Transportation Intermediary license has been reissued by the Federal Maritime Commission pursuant to section 19 of the Shipping Act of 1984 (46 U.S.C. Chapter 409) and the regulations of the Commission pertaining to the licensing of Ocean Transportation Intermediaries, 46 CFR Part 515.

License No. | Name/Address | Date reissued
004094NF | All Transport, Inc., 8369 NW. 66th Street, Miami, FL 33166 | December 24, 2010.
004441N | Econoquality Freight Forwarders, Inc., dba EQ Line, 3201 NW. 116th Street, Suite B, Miami, FL 33167 | January 13, 2011.
020577N | Bosmak, Inc. dba Ocean Breeze Shipping, 2501 Harford Road, Baltimore, MD 21218 | January 14, 2011.
021262NF | Amass International Group Inc., 13191 Crossroads Parkway North, Suite 385, City of Industry, CA 91746 | December 18, 2010.
021370NF | Encargo Export Corporation dba, Encargo Lines dba Encargo Logistics, 10800 NW. 103rd Street, Suite 5-E, Medley, FL 33178 | December 28, 2010.

Sandra L. Kusumoto,
Director, Bureau of Certification and Licensing.

[FR Doc. 2011-4206 Filed 2-24-11; 8:45 am]

BILLING CODE 6730-01-P